DEPARTMENT OF TRANSPORTATION

Federal Aviation Administration

Proposed Modification of the Phoenix Class B Airspace Area; AZ

AGENCY: Federal Aviation Administration (FAA), DOT.

ACTION: Notice of public meetings.

SUMMARY: This notice announces three fact-finding informal airspace meetings to solicit information from airspace users and others, concerning a proposal to revise the Class B airspace at Phoenix, AZ. The purpose of these meetings is to provide interested parties an opportunity to present views, recommendations, and comments on the proposal. All comments received during these meetings will be considered prior to any revision or issuance of a notice of proposed rulemaking.

DATES: The informal airspace meetings will be held on Tuesday, April 25, 2006; Thursday, April 27, 2006; and Tuesday, May 2, 2006; beginning at 7 p.m. Comments must be received on or before June 3, 2006.

ADDRESSES: (1) The meeting on Tuesday, April 25, 2006, will be held at the Glendale Airport Terminal Building, 6801 North Glen Harbor Blvd., Glendale, AZ 85301; (2) The meeting on Thursday, April 27, 2006, will be held at the Williams Gateway Airport, ASU Polytechnic University, Student Union Ballroom, 7001 East Williams Field Road, Mesa, AZ 85212; (3) The meeting on Tuesday, May 2, 2006, will be held at the Deer Valley Airport Pan Am International Flight Academy, 530 West Deer Valley Road, Phoenix, AZ 85027.

Comments: Send comments on the proposal in triplicate to: Manager, Air Traffic Western Terminal Services Area, Federal Aviation Administration, P.O. Box 92007, Los Angeles, CA 90009-2007.

FOR FURTHER INFORMATION CONTACT: Debra Trindle, Western Terminal Services Area, FAA, Western-Pacific Regional Office, telephone (310) 725-6611.

SUPPLEMENTARY INFORMATION:

Meeting Procedures

(a) The meetings will be informal in nature and will be conducted by one or more representatives of the FAA Western-Pacific Region. A representative from the FAA will present a formal briefing on the planned modification to the Class B airspace at Phoenix, AZ. Each participant will be given an opportunity to deliver comments or make a presentation. Only comments concerning the plan to modify the Class B airspace area at Phoenix, AZ, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded.

Agenda for the Meetings

—Sign-in.

—Presentation of Meeting Procedures.

—FAA explanation of the proposed Class B modifications.

—Public Presentations and Discussions.

—Closing Comments.

Issued in Washington, DC, on January 25, 2006.
Kenneth McElroy,
Manager, Airspace and Rules.

[FR Doc. E6-1157 Filed 1-30-06; 8:45 am]

BILLING CODE 4910-13-P